DEPARTMENT OF COMMERCE

National Oceanic and Atmospheric Administration

RIN 0648-XE582

Fisheries of the Exclusive Economic Zone Off Alaska; Stock Assessment of Alaska Sablefish; Peer Review Meeting

AGENCY: National Marine Fisheries Service (NMFS), National Oceanic and Atmospheric Administration (NOAA), Commerce.

ACTION: Notice of a public meeting.

SUMMARY: NMFS has requested the Center for Independent Experts (CIE) to conduct a peer review of the agency's stock assessment of Alaska Sablefish (Anopoploma fimbria). The CIE is a group affiliated with the University of Miami that provides independent peer reviews of NMFS science nationwide, including reviews of stock assessments for fish and marine mammals. The Alaska Sablefish stock assessment is reviewed annually by the Alaska Fisheries Science Center, the North Pacific Fishery Management Council (NPFMC) Plan Team, and the NPFMC Scientific and Statistical Committee. The CIE review will examine whether the assessment incorporates the best scientific information available for making management decisions and provides a reasonable approach to understanding the population dynamics and stock status of Alaska Sablefish. The public is invited to attend and observe the presentations and discussions between the CIE panel and the NMFS scientists who collected and processed the data, and designed the underlying model.

DATES: The public meeting will be held from May 10 through May 12, 2016, 9 a.m. to 5 p.m. Alaska Daylight Time.

ADDRESSES: The review will be held at the Ted Stevens Marine Research Institute, 17109 Pt. Lena Loop Rd, Juneau, AK 99801. Visitors will need to sign in at the front desk.

FOR FURTHER INFORMATION CONTACT: Dana Hanselman, 907-789-6626.

SUPPLEMENTARY INFORMATION: The CIE panel will consist of three peer reviewers who will assess materials related to the topic, participate in a review workshop with the NMFS scientists who developed the model and the analytical approach, and produce a report. This review will be highly technical in nature and will cover mathematical details of the analytical approach. More information about the CIE is available on its Web site at www.ciereviews.org.

Members of the public are invited to observe, and will be provided opportunities to contribute on May 10 and May 12, 2016. The final report will be available prior to the September NPFMC Plan Team meetings and will consist of individual reports from each panelist and a summary report. The results of the review will be presented during the September 2016 NPFMC Plan Team meeting, which will be announced at a later time in the Federal Register.

Special Accommodations

These workshops will be physically accessible to people with disabilities. Requests for sign language interpretation or other auxiliary aids should be directed to Pete Hagen, 907-789-6029, at least 10 working days prior to the meeting date.

Authority: 16 U.S.C. 1801 et seq.

Dated: April 22, 2016.
Emily H. Menashes,
Acting Director, Office of Sustainable Fisheries, National Marine Fisheries Service.

[FR Doc. 2016-09908 Filed 4-27-16; 8:45 am]

BILLING CODE 3510-22-P.